NUCLEAR REGULATORY COMMISSION

[Docket No. 70-3098]

Notice of Issuance of Construction Authorization to Duke Cogema Stone & Webster, Charlotte, NC

AGENCY: Nuclear Regulatory Commission.

ACTION: Notice of issuance of construction authorization.

FOR FURTHER INFORMATION CONTACT: David Brown, Sr. Project Manager, Special Projects Branch, Division of Fuel Cycle Safety and Safeguards, Office of Nuclear Material Safety and Safeguards, U.S. Nuclear Regulatory Commission, Rockville, MD, 20852. Telephone: (301) 415-5257; fax number: (301) 415-5370; e-mail: DDB@nrc.gov.

SUPPLEMENTARY INFORMATION:

I. Introduction

Notice is hereby given that, pursuant to 10 CFR 70.23(a)(7) and (b), the Nuclear Regulatory Commission (the Commission) has issued Construction Authorization No. CAMOX-001 to Duke Cogema Stone & Webster (the applicant) for construction of a plutonium processing and fuel fabrication plant. The plant will be located on the Department of Energy's Savannah River Site near Aiken, South Carolina, and will be known as the Mixed Oxide Fuel Fabrication Facility.

The Commission has made appropriate findings as required by the Atomic Energy Act of 1954, as amended (the Act), the Commission's rules and regulations, and by the requirements of Section 102(2)(A) and (C) of the National Environmental Policy Act (NEPA), as set forth in Construction Authorization No. CAMOX-001 (CA).

II. Further Information

The CA is effective as of its date of issuance. For further details see Construction Authorization No. CAMOX-001 (ADAMS Accession No. ML050660392) and the Office of Nuclear Material Safety and Safeguards' Final Safety Evaluation Report (NUREG-1821) dated March 2005 (ADAMS Accession No. ML050660399). The Final Safety Evaluation Report relies, in part, on information provided in the applicant's construction authorization request dated October 31, 2002 (as subsequently revised). The results of the staff's environmental review are contained in NUREG-1767, “Environmental Impact Statement on the Construction and Operation of a Proposed Mixed Oxide Fuel Fabrication Facility at the Savannah River Site, South Carolina,” dated January 2005 (ML050240233, ML050240250). On October 25, 2004, the NRC suspended public access to the ADAMS online library and some other parts of its Web site to review documents and remove any that could reasonably be expected to aid a potential terrorist. Related to this effort, the NRC is withholding some records which are deemed to contain sensitive information under 10 CFR 2.390. Publicly available records may be examined, and/or copied for a fee, at the NRC's Public Document Room, located at One White Flint North, Public File Area O1 F21, 11555 Rockville Pike (first floor), Rockville, Maryland. Publicly available records will be accessible electronically from the Agency-wide Documents Access and Management Systems (ADAMS) Public Electronic Reading Room, and on the Internet at the NRC Web site, http://www.nrc.gov/NRC/ADAMS/index.html. Persons who do not have access to ADAMS or who encounter problems in accessing the documents located in ADAMS, should contact the NRC Public Document Room Reference staff by telephone at 1-800-397-4209, 301-415-4737, or by e-mail to pdr@nrc.gov.

Dated at Rockville, Maryland, this 1st day of April, 2005.
For the Nuclear Regulatory Commission.
Brian W. Smith,
Acting Branch Chief, Special Projects Branch, Division of Fuel Cycle Safety and Safeguards, Office of Nuclear Material Safety and Safeguards.

[FR Doc. E5-1596 Filed 4-6-05; 8:45 am]

BILLING CODE 7590-01-P